DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, DC.

Docket Number: 02-018. Applicant: Thomas Jefferson University, 1020 Walnut Street, Philadelphia, PA 19107-5587. Instrument: Electron Microscope, Model Tecnai 12 TWIN. Manufacturer: FEI Company, The Netherlands. Intended Use: The instrument is intended to be used for the following research purposes:

1. Collagen Fibrillogenesis and Corneal Development.

2. Regulated Assembly of the Tendon Extracellular Matrix.

3. Cellular Pathology of Cutaneous Graft-vs-Host Disease.

4. Biological and Clinical Properties of CD4 Structural Analogs.

5. Altered Proteoglycan Gene Expression and Cancer.

6. Biology of Perlecan in Cancer and Development.

7. Structure of Type VI Collagen and its Role in Disease.

8. Function of Fibulins.

9. Consequences of the Mutations at the Protein Structure/Function Level.

10. Mouse Models of Epidermolysis Bullosa.

11. Molecular Genetics of Epidermolysis Bullosa and Other Heritable Disorders of the Cutaneous Basement Membrane Zone and Epidermis.

12. Biochemistry and Morphology of Connective Tissue.

13. RNA-DNA Oligonucleotide: Novel Skin Therapueutics.

14. Non-viral Therapy for Cutaneous Diseases.

15. Mechanisms of Proteoglycan-collagen Interactions. Application accepted by Commissioner of Customs: May 23, 2002.

Docket Number: 02-019. Applicant: Vanderbilt University, 1161 21st Avenue South, Nashville, TN 37232. Instrument: Electron Microscope, Model Tecnai 12 TWIN. Manufacturer: FEI Company, The Netherlands. Intended Use: The instrument is intended to be used to study the three-dimensional structures of biological macromolecules and assemblies, such as viruses and protein complexes. The materials to be studied include adenovirus, a common human respiratory virus; the ribonucleoprotein vault, a cytoplasmic particle implicated in multi-drug resistance in certain cancer cell lines; the DNA-PK protein/DNA complex, which is involved in repair of DNA double-stranded breaks after exposure to ionizing radiation; the family of small heat-shock proteins, which help the cell to resist heat-induced protein aggregation; CAM kinase complexes, which are involved in regulation of synaptic function in the brain; monoamine transporters (serotonin, norepinephrine, and dopamine), which are targets for antidepressants and phychostimulants; transcription complexes isolated from yeast; and other macromolecular protein assemblies involved in DNA transactions. Application accepted by Commissioner of Customs: May 23, 2002.

Gerald A. Zerdy,
Program Manager, Statutory Import Programs Staff.

[FR Doc. 02-14072 Filed 6-4-02; 8:45 am]

BILLING CODE 3510-DS-P